DEPARTMENT OF TRANSPORTATION

Federal Railroad Administration

[Docket Number FRA-1999-6364]

Northeast Illinois Railroad Corporation; Cancellation of Public Hearing

On April 4, 2000, the Federal Railroad Administration (FRA) published a notice in the Federal Register (65 FR 17704) announcing that a public hearing will be held based upon the Northeast Illinois Railroad Corporation's (Metra) request seeking a permanent waiver of compliance with the Passenger Equipment Safety Standards, 49 CFR part 238.303, which requires exterior calendar day inspection, and 238.313, which requires a class one brake test be performed by a qualified maintenance person. Metra has withdrawn its request; therefore, the hearing scheduled for Tuesday, May 16, 2000, in Chicago, Illinois, has been canceled.

FRA regrets any inconvenience occasioned by the cancellation of this hearing.

Issued in Washington, DC on May 8, 2000.
Grady C. Cothen, Jr.,
Deputy Associate Administrator for Safety Standards and Program Development.

[FR Doc. 00-11865 Filed 5-10-00; 8:45 am]

BILLING CODE 4910-06-P